DEPARTMENT OF HOMELAND SECURITY

Coast Guard

33 CFR Part 117

[CGD01-05-013]

Drawbridge Operation Regulations: Raritan River, NJ

AGENCY: Coast Guard, DHS.

ACTION: Notice of temporary deviation from regulations.

SUMMARY: The Commander, First Coast Guard District, has issued a temporary deviation from the drawbridge operation regulations for the New Jersey Transit Rail Operations (NJTRO) Bridge, at mile 0.5, across the Raritan River, at Perth Amboy, New Jersey. Under this temporary deviation the bridge may remain in the closed position beginning at 11 p.m. on Friday through 6 p.m. on Saturday for four weekends between March 18 and May 14, 2005. This temporary deviation is necessary to facilitate scheduled maintenance at the bridge.

DATES: This deviation is effective from March 18, 2005 through May 14, 2005.

FOR FURTHER INFORMATION CONTACT: Joe Arca, Project Officer, First Coast Guard District, at (212) 668-7165.

SUPPLEMENTARY INFORMATION: The NJTRO Bridge has a vertical clearance in the closed position of 8 feet at mean high water and 13 feet at mean low water. The existing drawbridge operation regulations are listed at 33 CFR 117.747.

The bridge owner, New Jersey Transit Rail Operations (NJTRO), requested a temporary deviation from the drawbridge operation regulations to facilitate necessary scheduled bridge maintenance, replacement of miter rails, at the bridge. The bridge must remain in the closed position during the performance of these repairs.

Under this temporary deviation the NJTRO Bridge may remain in the closed position beginning at 11 p.m. on Friday through 6 p.m. on Saturday for four weekends as follows: March 18 through March 19; April 1 through April 2; April 15 through April 16; and April 29 through April 30, 2005. Two alternate weekend closure dates, May 6 through May 7, and May 13 through May 14, 2005, have been authorized in the event that inclement weather requires cancellation of any of the above dates.

This deviation from the operating regulations is authorized under 33 CFR 117.35, and will be performed with all due speed in order to return the bridge to normal operation as soon as possible.

Dated: February 11, 2005.
Gary Kassof,
Bridge Program Manager, First Coast Guard District.

[FR Doc. 05-3255 Filed 2-18-05; 8:45 am]

BILLING CODE 4910-15-P